DEPARTMENT OF ENERGY

Federal Energy Regulatory Commission

[Docket No. RP01-58-000]

Granite State Gas Transmission, Inc.; Notice of Compliance Filing

October 25, 2000.

Take notice that on October 18, 2000, Granite State Gas Transmission, Inc. (Granite State) tendered for filing a letter with the Commission in response to Order No. 587-L informing the Commission that Granite State's currently effective gas tariff contains provisions permitting imbalance netting and trading by shippers.

Granite States states that copies of this filing have been sent to Granite State's shippers and interested state regulatory commissions.

Any person desiring to be heard or to protest said filing should file a motion to intervene or a protest with the Federal Energy Regulatory Commission, 888 First Street, NE., Washington, DC 20426, in accordance with Sections 385.214 and 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-27855 Filed 10-30-00; 8:45 am]

BILLING CODE 6717-01-M